DEPARTMENT OF THE TREASURY

Office of Thrift Supervision

12 CFR Part 502

[OTS No. 2009-0023]

Technical Amendments

AGENCY: Office of Thrift Supervision, Treasury.

ACTION: Final rule.

SUMMARY: The Office of Thrift Supervision (OTS) is amending its regulations to incorporate technical and conforming amendments.

DATES: Effective Date: December 29, 2009.

FOR FURTHER INFORMATION CONTACT: Sandra E. Evans, Legal Information Assistant (Regulations), (202) 906-6086, or Marvin Shaw, Senior Attorney, (202) 906-6639, Regulations and Legislation Division, Chief Counsel's Office, Office of Thrift Supervision, 1700 G Street, NW., Washington, DC 20552.

SUPPLEMENTARY INFORMATION: OTS is amending its regulations to incorporate technical and conforming amendments to Part 502—Assessments and Fees. The final rule makes two changes to part 502. First, the final rule revises section 502.26(a)(1) with respect to the base assessment amount for a savings and loan holding company (SHLC). Specifically, the final rule increases the base assessment amount from $3,000 to $3,500. The increase reflects the change in the Thrift Bulletin TB 48-27 that provides for an adjustment for inflation that is permissible under part 502. Second, the final rule revises section 502.29 with respect to the condition component for a SLHC. Specifically, the final rule replaces the term “unsatisfactory” with the phrase “a composite rating of 4 or 5.” The new phrase reflects a change in an agency guidance titled Savings and Loan Holding Company Rating System issued in the Federal Register.¹

¹ 72 FR 72442, December 20, 2007.

Administrative Procedure Act; Riegle Community Development and Regulatory Improvement Act of 1994

OTS finds that there is good cause to dispense with prior notice and comment on this final rule and with the 30-day delay of effective date mandated by the Administrative Procedure Act.² OTS believes that these procedures are unnecessary and contrary to public interest because the rule merely makes a technical change to an existing provision.

² 5 U.S.C. 553.

Section 302 of the Riegle Community Development and Regulatory Improvement Act of 1994 provides that regulations that impose additional reporting, disclosure, or other new requirements may not take effect before the first day of the quarter following publication.³ This section does not apply because this final rule imposes no additional requirements and makes only technical changes to existing regulations.

³ Pub. L. No. 103-325, 12 U.S.C. 4802.

Regulatory Flexibility Act

Pursuant to section 605(b) of the Regulatory Flexibility Act,⁴ the OTS Director certifies that this technical corrections regulation will not have a significant economic impact on a substantial number of small entities.

⁴ Pub. L. No. 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995

List of Subjects in 12 CFR Part 502

Assessments, Reporting and recordkeeping requirements, Savings associations.

Accordingly, the Office of Thrift Supervision amends title 12, chapter V of the Code of Federal Regulations, as set forth below.

PART 502—ASSESSMENTS AND FEES

1. The authority citation for part 502 continues to read as follows:

Authority: 5 U.S.C. 552, 559; 12 U.S.C. 1462a, 1463, 1467, 1467a.

2. Revise § 502.26(a)(1) as follows:

§ 502.26 How does OTS calculate the semi-annual assessment for savings and loan holding companies?

(a) * * *

(1) OTS will assess a base assessment amount of $3,500 on responsible savings and loan holding companies. The base assessment amount reflects OTS's estimate of the base costs of conducting on- and off-site supervision of a noncomplex, low risk savings and loan holding company structure. OTS will periodically revise this amount to reflect changes in inflation based on a readily available index. OTS will establish the revised amount of the base assessment in a Thrift Bulletin.

* * * * *

3. Revise § 502.29(a) as follows:

§ 502.29 How does OTS determine the condition component for a savings and loan holding company?

(a) If the most recent examination rating assigned to the responsible savings and loan holding company (or most recent examination rating assigned to any savings and loan holding company in the holding company structure) is a composite rating of 4 or 5, OTS will assess a charge under the condition component. The amount of the condition component is equal to 100 percent of the sum of the base assessment amount, the risk/complexity component, and any organizational form component.

* * * * *

Dated: December 18, 2009.
By the Office of Thrift Supervision.
John E. Bowman,
Acting Director.

[FR Doc. E9-30846 Filed 12-28-09; 8:45 am]

BILLING CODE 6720-01-P